OVERSEAS PRIVATE INVESTMENT CORPORATION

Submission for OMB Review—Comment Request

AGENCY: Overseas Private Investment Corporation (OPIC).

ACTION: Request for comments.

SUMMARY: Under the provisions of the Paperwork Reduction Act (44 U.S.C. chapter 35), agencies are required to publish a Notice in the Federal Register notifying the public that the Agency is preparing an information collection request for OMB review and approval and to request public review and comment on the submission. Comments are being solicited on the need for the information; the accuracy of the Agency's burden estimate, practical utility and clarity of the information to be collected; and on ways to minimize the reporting burden, including automated collection techniques and uses of other forms of technology. The proposed form, OMB control number 3420-0011, under review is summarized below.

DATES: This is the 60-day notice for OPIC Form-52; OMB-3420-0011 (Application for Political Risk Insurance) is to inform the public, that this collection is being submitted to OMB for approval. Any Comments must be forwarded to the Office of Information/Regulatory Affairs, Office of Management & Budget, 725 17th Street, NW., Washington, DC 20503.

ADDRESSES: Copies of the subject form and the request for review prepared for submission to OMB may be obtained from the Agency submitting officer. Comments on the form should be submitted to the Agency Submitting Officer.

FOR FURTHER INFORMATION CONTACT: OPIC Agency Submitting Officer: Essie Bryant, Records Management Officer, Overseas Private Investment Corporation, 1100 New York Avenue, NW., Washington, DC 20527; (202) 336-8563.

Summary Form Under Review

Type of Request: Revised form.

Title: Application for Political Risk Insurance.

Form Number: OPIC-52.

Frequency of Use: Once per investor per project.

Type of Respondents: Business or other institution (except farms);

individuals.

Standard Industrial Classification Codes: All.

Description of Affected Public: U.S. companies or citizens investing overseas.

Reporting Hours: 9 hours per project.

Number of Responses: 100 per year.

Federal Cost: $24,300.00.

Authority for Information Collection: Sections 231, 234(a), 239(d), and 240A of the Foreign Assistance Act of 1961, as amended.

Abstract (Needs and Uses): The application is the principal document used by OPIC to determine the investor's and the project's eligibility for political risk insurance, assess the environmental impact and developmental effects of the project, measure the economic effects for the U.S. and the host country economy, and collect information for insurance underwriting analysis.

Dated: March 18, 2011.
Nichole Cadiente,
Administrative Counsel, Department of Legal Affairs.

[FR Doc. 2011-6927 Filed 3-25-11; 8:45 am]

BILLING CODE M